DEPARTMENT OF HEALTH AND HUMAN SERVICES

Centers for Medicare & Medicaid Services

[Document Identifier: CMS-R-193, CMS-10079, CMS-2567, CMS-10149, CMS-10165]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Important Message from Medicare Title XVII Section 1866(a)(1)(M), 42 CFR Sections 466.78, 489,20, and 489.27; Form Number: CMS-R-193 (OMB#: 0938-0692); Use: Hospitals participating in the Medicare program are required to distribute the “Important Message From Medicare” to all Medicare beneficiaries (including those enrolled in a Medicare managed care health plan). Hospitals must distribute this notice at or about the same time of a Medicare beneficiary's admission or during the course of his or her hospital stay. Receiving this information will provide all Medicare beneficiaries with some ability to participate and/or initiate discussions concerning actions that may affect their Medicare coverage, payment, and appeal rights in response to a hospital's or Medicare managed care plan's notification that their care will no longer continue; Frequency: Recordkeeping and Reporting—Other: Distribution; Affected Public: Individuals or Households, Business or other for-profit, Not-for-profit institutions, Federal, State, Local or Tribal Government; Number of Respondents: 6,051; Total Annual Responses: 12,500,000; Total Annual Hours: 208,333.

2. Type of Information Collection Request: Revision of a currently approved collection; Title of Information Collection: Hospital Wage Index—Occupational Mix Survey and Supporting Regulations in 42 CFR 412.230, 412.304, and 413.65; Form Number: CMS-10079 (OMB#: 0938-0907); Use: Section 304 of the Medicare, Medicaid, and State Children's Health Insurance Program (SCHIP) Benefits Improvement and Protection Act of 2000 requires CMS to collect wage data on hospital employees by occupational category, at least once every 3 years in order to construct an occupational mix adjustment to the wage index. CMS first collected occupational mix survey data in 2003 for the FY 2005 wage index. In response to industry comments suggesting ways to improve the occupational mix survey, CMS has revised the survey for the next data collection period, 2006, to be used in calculating the FY 2008 wage index. The purpose of the occupational mix adjustment is to control for the effect of hospitals' employment choices on the wage index. For example, hospitals may choose to employ different combinations of registered nurses, licensed practical nurses, nursing aides, and medical assistants for the purpose of providing nursing care to their patients. The varying labor costs associated with these choices reflect hospital management decisions rather than geographic differences in the costs of labor. Each of the approximately 3,800 acute care hospital inpatient prospective payment system (IPPS) providers participating in the Medicare program will be required to complete the 2006 Medicare Wage Index Occupational Mix Survey. The initial survey will be forwarded via e-mail to all of CMS's fiscal intermediaries; Frequency: Reporting—Other, Triennially; Affected Public: Business or other for-profit and Not-for-profit institutions; Number of Respondents: 3,800; Total Annual Responses: 3,800; Total Annual Hours: 608,000.

3. Type of Information Collection Request: Extension of a currently approved collection; Title of Information Collection: Statement of Deficiencies and Plan of Correction contained under 42 CFR 488.18, 488.26, and 488.28; Form Number: CMS-2567 (OMB#: 0938-0391); Use: Section 1864(a) of the Social Security Act requires that the Secretary use State survey agencies to conduct surveys. The surveys are used to determine if health care facilities meet Medicare, Medicaid, and Clinical Laboratory Improvement Amendments (CLIA) participation requirements. The Statement of Deficiencies and Plan of Correction form, is used to record each deficiency discovered during an inspection. Providers, suppliers and CLIA laboratories also utilize this form to outline a corrective action plan for each deficiency. The States and CMS regional offices use this form to document and certify compliance, and to disclose information to the public; Frequency: Recordkeeping, Third party disclosure and Reporting—Annually and Biennially; Affected Public: Business or other for-profit, Not-for-profit institutions, Federal, State, Local or Tribal Government; Number of Respondents: 60,000; Total Annual Responses: 60,000; Total Annual Hours: 120,000.

4. Type of Information Collection Request: Extension of a currently approved collection; Title of Information Collection: Health Insurance Reform: Security Standards Final Rule; Form Number: CMS-10149 (OMB#: 0938-0949); Use: The Department of Health and Human Services (HHS) Medicare Program, other Federal agencies operating health plans or providing health care, State Medicaid agencies, private health plans, health care providers, and health care clearinghouses must assure their customers (for example, patients, insured individuals, providers, and health plans) that the integrity, confidentiality, and availability of the protected electronic health information they collect, maintain, use, or transmit is protected. The confidentiality of health information is threatened not only by the risk of improper access to stored information, but also by the risk of interception during electronic transmission of the information. The use of the security standards will improve the Medicare and Medicaid programs, other Federal health programs, and private health programs; in addition, it will improve the effectiveness and efficiency of the health care industry in general by establishing a level of protection for certain electronic health information; Frequency: Recordkeeping and Reporting—On occasion; Affected Public: Business or other for-profit, Not-for-profit institutions, Federal Government, and State, Local or Tribal Government; Number of Respondents: 4,000,000; Total Annual Responses: 4,000,000; Total Annual Hours: 64,539,263.

5. Type of Information Collection Request: Extension of a currently approved collection; Title of Information Collection: Application for Participation in the Medicare Care Management Performance Demonstration; Form Number: CMS-10165 (OMB#: 0938-0965); Use: The Medicare Care Management Performance (MCMP) Demonstration and its corresponding Report to Congress are mandated by the section 649 of the Medicare Prescription Drug, Improvement, and Modernization Act of 2003 (MMA). Section 649 of the MMA provides for the implementation of a “pay for performance” demonstration under which Medicare would pay incentive payments to physicians who (1) adopt and use health information technology; and (2) meet established standards on clinical performance measures. This demonstration will be held in four states, Arkansas, California, Massachusetts, and Utah. Providers that are enrolled in the Doctors' Office Quality—Information Technology (DOQ-IT) project are eligible to participate in the demonstration. To enroll in the MCMP Demonstration, a physician/provider must submit an application form. The information collected will be used to assess eligibility for the demonstration; Frequency: Reporting—One-time only; Affected Public: Business or other for-profit; Number of Respondents: 800; Total Annual Responses: 800; Total Annual Hours: 133.

To obtain copies of the supporting statement and any related forms for the proposed paperwork collections referenced above, access CMS’ Web site address at http://www.cms.hhs.gov/regulations/pra/, or E-mail your request, including your address, phone number, OMB number, and CMS document identifier, to Paperwork@cms.hhs.gov, or call the Reports Clearance Office on (410) 786-1326.

To be assured consideration, comments and recommendations for the proposed information collections must be received at the address below, no later than 5 p.m. on December 13, 2005. CMS, Office of Strategic Operations and Regulatory Affairs, Division of Regulations Development, Attention: Melissa Musotto, Room C4-26-05, 7500 Security Boulevard, Baltimore, Maryland 21244-1850.

Dated: October 6, 2005.
Michelle Shortt,
Director, Regulations Development Group, Office of Strategic Operations and Regulatory Affairs.

[FR Doc. 05-20517 Filed 10-13-05; 8:45 am]

BILLING CODE 4120-01-P